DEPARTMENT OF ENERGY

Environmental Management Site-Specific Advisory Board Chairs

AGENCY: Department of Energy.

ACTION: Notice of open meeting.

SUMMARY: This notice announces a meeting of the Environmental Management Site-Specific Advisory Board (EM SSAB) Chairs. The Federal Advisory Committee Act (Pub. L. No. 92-463, 86 Stat. 770) requires that public notice of this meeting be announced in the Federal Register.

DATES: Tuesday, November 5, 2013—8:00 a.m.-5:00 p.m.; Wednesday, November 6, 2013—8:00 a.m.-5:00 p.m.

ADDRESSES: Deer Creek Lodge and Conference Center, P.O. Box 125, 22300 State Park Road 20, Mt. Sterling, OH 43143.

FOR FURTHER INFORMATION CONTACT: Catherine Alexander, Designated Federal Officer, U.S. Department of Energy, 1000 Independence Avenue SW., Washington, DC 20585; Phone: (202) 586-7711.

SUPPLEMENTARY INFORMATION:

Purpose of the Board: The purpose of the Board is to make recommendations to DOE-EM and site management in the areas of environmental restoration, waste management, and related activities.

Tentative Agenda Topics:

Tuesday, November 5, 2013

○ EM Program Update

○ EM SSAB Chairs' Round Robin: Topics, Achievements, and Accomplishments

○ EM Headquarters Budget Update

○ EM Headquarters Waste Disposition Strategies

○ Public Comment Period

Wednesday November 6, 2013

○ DOE Headquarters News and Views

○ Educational Session: Life after EM Mission is Complete

Public Participation: The EM SSAB Chairs welcome the attendance of the public at their advisory committee meetings and will make every effort to accommodate persons with physical disabilities or special needs. If you require special accommodations due to a disability, please contact Catherine Alexander by COB Friday, November 1, 2013, at the phone number listed above. Written statements may be filed either before or after the meeting with the Designated Federal Officer, Catherine Alexander, at the address or telephone listed above. Individuals who wish to make oral statements pertaining to agenda items should also contact Catherine Alexander by phone or email (catherine.alexander@em.doe.gov). Requests must be received by COB Friday, November 1, 2013. Reasonable provision will be made to accommodate requests for comment in the agenda. The Designated Federal Officer is empowered to conduct the meeting in a fashion that will facilitate the orderly conduct of business. Individuals wishing to make public comment will be provided a maximum of five minutes to present their comments. This notice is being published less than 15 days prior to the meeting date due to extraordinary circumstances resulting from the lapse in Federal appropriations in October 2013 and the resulting postponement of the EM SSAB Chairs' meeting, which originally was scheduled for October 16-17, 2013. Rescheduling for the dates of November 5-6, 2013, is necessary in order to accommodate participation by senior management and to avoid conflicts with the scheduled committee meetings of this federal advisory board. The EM SSAB Chairs have not had a face-to-face meeting in over a year, and these meetings constitute the full board meetings of the EM SSAB, fulfilling Federal Advisory Committee Act (FACA) requirements. Arrangements and meeting costs agreed upon for the postponed meeting will be extended by the vendors if the meeting is held within this timeframe. A later date at this Ohio venue is inadvisable due to inclement weather concerns.

Minutes: Minutes will be available by writing or calling Catherine Alexander at the address or phone number listed above. Minutes will also be available at the following Web site: http://www.em.doe.gov/stakepages/ssabchairs.aspx.

Issued at Washington, DC on October 24, 2013.
LaTanya R. Butler,
Deputy Committee Management Officer.

[FR Doc. 2013-25550 Filed 10-24-13; 4:15 pm]

BILLING CODE 6450-01-P